DEPARTMENT OF AGRICULTURE

National Institute of Food and Agriculture

Notice of Intent To Extend and Revise a Currently Approved Information Collection

AGENCY: National Institute of Food and Agriculture, U.S. Department of Agriculture (USDA).

ACTION: Notice and request for comments.

SUMMARY: In accordance with the Paperwork Reduction Act of 1995 and Office of Management and Budget (OMB) regulations, this notice announces the National Institute of Food and Agriculture's (NIFA) intention to extend and revise a currently approved information collection entitled, “Reporting Requirements for State Plans of Work for Agricultural Research and Extension Formula Funds.” NIFA is proposing to change the collection title to “NIFA Reporting System (NRS)”, include a new financial reporting module, modify existing reports in order to request digital persistent identifiers, and allow respondents to provide information on Co-Project Director(s) when applicable.

DATES: Written comments on this notice must be received by October 30, 2023 to be assured of consideration. Comments received after that date will be considered to the extent practicable.

ADDRESSES: You may submit comments through the Federal eRulemaking Portal: www.regulations.gov. Follow the instructions for submitting comments.

Instructions: All comments received will be posted without change to www.regulations.gov, including any personal information provided.

FOR FURTHER INFORMATION CONTACT: Laura Givens, 816-527-5379, Laura.Givens@usda.gov.

SUPPLEMENTARY INFORMATION:

Title of Collection: NIFA Reporting System (NRS).

OMB Control Number: 0524-0036.

Expiration Date of Current Approval: 10/31/2025.

Type of Request: Notice of intent to extend and revise a currently approved information collection.

Abstract: The “NIFA Reporting System” (NRS), provides data management and reporting for capacity funded research projects and extension programs. NRS currently contains the Agricultural Research, Extension, and Education Reform Act of 1998 (AREERA) (7 U.S.C. 7601 et seq.) Plans of Work, Annual Reports of Accomplishments, and other capacity grant data for research projects and extension programs. The programs are authorized pursuant to the authorities contained in the McIntire-Stennis Cooperative Forestry Act of 1962 (16 U.S.C. 582a et seq.), the Hatch Act of 1887 and the Hatch Multistate Research Fund (7 U.S.C. 361a and 361c), the Agricultural Extension at 1890 Land-Grant Institutions (7 U.S.C. 3221), Agricultural research at 1890 land-grant colleges (7 U.S.C. 3222), Animal Health and Disease Research (7 U.S.C. 3195), Renewable Resources Extension Act of 1978 (16 U.S.C. 1674), District of Columbia Public Post-secondary Education Reorganization Act (DC ST Section 38-1202.09), and the Smith-Lever Act (7 U.S.C. 341).

NIFA proposes to add a new financial module within NRS comprised of two separate forms: the Financial Report form and the Office of Grants and Financial Management (OGFM) supplemental information form.

The Financial Report form will capture expenditures for individual research projects and extension programs and will allow for both individual and bulk data entry options. This reporting would include NIFA, other federal, state, and other funding expenditures and Full Time Equivalents (FTE) supporting the project/program during the fiscal year of reporting.

The OGFM Supplemental Information Form will collect information on required target percentages for integrated and extension programs required to submit this information as part of AREERA reporting requirements. NIFA plans to prepopulate some of the fields in the form so that the response will be limited to total expenditures of three types (Hatch (Regular and Multistate) integrated, Smith-Lever multistate, and Smith-Lever extension activities), any carryover used, and information for a waiver (if applicable).

NIFA also proposes to modify the Project/Program Initiation report to include a new optional field for Co-Project Directors.

Finally, NIFA also seeks to modify the Project/Program Results report to include a new field for digital persistent identifiers associated with products resulting from capacity funded research projects and extension programs.

Total Estimate of the Burden: The estimated annual reporting burden for the NRS collection is as follows:

I. Plan of Work

The total annual estimated burden for this information collection is 4,800 hours. This includes the time needed for participant education; data entry, aggregation, and reporting; and preparation, review, and submission of program plans and budgetary information. There are four components of the Plan of Work: Executive Summary, Merit and Scientific Peer Review Processes, Stakeholder Input, and Critical Issues.

Estimate of Burden:

Estimated Number of Respondents: 75 per year.

Estimated Number of Responses per Respondent: 1.

Estimated Burden per Response: 64 hours.

Estimated Total Annual Burden on Respondents: 4,800 hours.

Frequency of Responses: Annually.

II. Annual Report of Accomplishments and Results

The total annual estimated burden for this information collection is 4,800 hours. This includes the time needed for participant education; data entry, aggregation, and reporting; and preparation, review, and submission of program plans and budgetary information.

Estimated Number of Respondents: 75 per year.

Estimated Number of Responses per Respondent: 1.

Estimated Burden per Response: 64 hours.

Estimated Total Annual Burden on Respondents: 4,800 hours.

Frequency of Responses: Annually.

III. Project/Program Initiation

The total annual estimated burden for this information collection is 9,200 hours. This includes the time needed for participant education; data entry, aggregation, and reporting; and preparation, review, and submission of program plans and budgetary information. NIFA proposes to add a new optional field for Co-Project Director(s) but anticipates that this will not increase the amount of time needed to complete each response.

Estimated Number of Respondents: 2,000 per year.

Estimated Number of Responses per Respondent: 1.

Estimated Burden per Response: 4.6 hours.

Estimated Total Annual Burden on Respondents: 9,200 hours.

Frequency of Responses: Annually.

IV. Project/Program Results

The total annual estimated burden for this information collection is 32,300 hours. This includes the time needed for participant education; data entry, aggregation, and reporting; and preparation, review, and submission of program plans and budgetary information. Project/Program Results were previously included in “Annual Report of Accomplishments and Results” above but is being separated to include Results for non-AREERA capacity funding. NIFA is proposing to add fields specifically for reporting products resulting from projects and programs but anticipates that this will not increase the amount of time needed to complete each response.

Estimated Number of Respondents: 8,500 per year.

Estimated Number of Responses per Respondent: 1.

Estimated Burden per Response: 3.8 hours.

Estimated Total Annual Burden on Respondents: 32,300 hours.

Frequency of Responses: Annually.

V. Financial Report for All Projects and Programs

The total annual estimated burden for this information collection is 11,900 hours. This includes the time needed for participant education; data entry, aggregation, and reporting; and preparation, review, and submission of program plans and budgetary information. NIFA used burden estimates from the Financial Report in the current REEport collection (OMB 0524-0048, “Research, Education, and Extension project online reporting tool (REEport)”) to estimate the burden for Financial Report in NRS.

Estimated Number of Respondents: 8,500 per year.

Estimated Number of Responses per Respondent: 1.

Estimated Burden per Response: 1.4 hours.

Estimated Total Annual Burden on Respondents: 11,900 hours.

Frequency of Responses: Annually.

VI. OGFM Supplemental Form

The total annual estimated burden for this information collection is 102 hours. This includes the time needed for participant education; data entry, aggregation, and reporting; and preparation, review, and submission of program plans and budgetary information. NIFA plans to prepopulate some of the fields in the form so that the response will be limited to total expenditures of three types (Hatch (Regular and Multistate) integrated, Smith-Lever multistate, and Smith-Lever extension activities), any carryover used, and information for a waiver (if applicable). The OGFM Supplemental Form will have a deadline after the Financial Report, which should streamline the expenditures data needed.

Estimated Number of Respondents: 51 per year.

Estimated Number of Responses per Respondent: 1.

Estimated Burden per Response: 2 hours.

Estimated Total Annual Burden on Respondents: 102 hours.

Frequency of Responses: Annually.

Comments: Comments are invited on: (a) Whether the proposed collection of information is necessary for the proper performance of the functions of the agency, including whether the information will have practical utility; (b) the accuracy of the Agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be summarized and included in the request for OMB approval. All comments will become a matter of public record.

Obtaining a Copy of the Information Collection: A copy of the information collection and related instructions may be obtained free of charge by contacting Laura Givens as directed above.

Done at Washington, DC, this day of August 19, 2023.
Dionne Toombs,
Associate Director for Programs, National Institute of Food and Agriculture, U.S. Department of Agriculture.

[FR Doc. 2023-18852 Filed 8-30-23; 8:45 am]

BILLING CODE 3410-22-P